DEPARTMENT OF JUSTICE

Drug Enforcement Administration

21 CFR Part 1308

[Docket No. DEA-475]

Schedules of Controlled Substances: Temporary Placement of Seven Fentanyl-Related Substances in Schedule I; Correction

AGENCY: Drug Enforcement Administration, Department of Justice.

ACTION: Temporary amendment; temporary scheduling order; correcting amendment.

SUMMARY: On February 1, 2018, the Drug Enforcement Administration placed seven fentanyl-related substances temporarily in schedule I of the Controlled Substances Act. Incorrect drug codes were assigned to valeryl fentanyl and ocfentanil. This document corrects the drug codes for those two substances.

DATES: Effective March 9, 2018 until February 1, 2020.

FOR FURTHER INFORMATION CONTACT: Michael J. Lewis, Diversion Control Division, Drug Enforcement Administration; Mailing Address: 8701 Morrissette Drive, Springfield, Virginia 22152; Telephone: (202) 598-6812.

SUPPLEMENTARY INFORMATION: On February 1, 2018 (83 FR 4580), the Drug Enforcement Administration (DEA) issued a document placing seven fentanyl-related substances temporarily in schedule I of the Controlled Substances Act. These seven substances are: N-(1-phenethylpiperidin-4-yl)-N-phenylpentanamide (valeryl fentanyl), N-(4-fluorophenyl)-N-(1-phenethylpiperidin-4-yl)butyramide (para-fluorobutyryl fentanyl), N-(4-methoxyphenyl)-N-(1-phenethylpiperidin-4-yl)butyramide (para-methoxybutyryl fentanyl), N-(4-chlorophenyl)-N-(1-phenethylpiperidin-4-yl)isobutyramide (para-chloroisobutyryl fentanyl), N-(1-phenethylpiperidin-4-yl)-N-phenylisobutyramide (isobutyryl fentanyl), N-(1-phenethylpiperidin-4-yl)-N-phenylcyclopentanecarboxamide (cyclopentyl fentanyl), and N-(2-fluorophenyl)-2-methoxy-N-(1-phenethylpiperidin-4-yl)acetamide (ocfentanil). The document assigned incorrect drug codes to valeryl fentanyl and ocfentanil. This document corrects the drug codes for those two substances.

List of Subjects in 21 CFR Part 1308

Administrative practice and procedure, Drug traffic control, Reporting and recordkeeping requirements.

For the reasons set out above, the DEA corrects 21 CFR part 1308 by making the following correcting amendments:

PART 1308—SCHEDULES OF CONTROLLED SUBSTANCES

1. The authority citation for part 1308 continues to read as follows:

Authority: 21 U.S.C. 811, 812, 871(b), 956(b), unless otherwise noted.

2. In § 1308.11, paragraphs (h)(23) and (29) are revised to read as follows:

§ 1308.11 Schedule I.

* * * * *

(h) * * *

(23) N-(1-phenethylpiperidin-4-yl)-N-phenylpentanamide, its isomers, esters, ethers, salts and salts of isomers, esters and ethers (Other name: Valeryl fentanyl) | (9840)

* * * * *

(29) N-(2-fluorophenyl)-2-methoxy-N-(1-phenethylpiperidin-4-yl)acetamide, its isomers, esters, ethers, salts and salts of isomers, esters and ethers (Other name: Ocfentanil) | (9838)

* * * * *

Dated: February 28, 2018.
Robert W. Patterson,
Acting Administrator.

[FR Doc. 2018-04765 Filed 3-8-18; 8:45 am]

BILLING CODE 4410-09-P